DEPARTMENT OF AGRICULTURE

Submission for OMB Review; Comment Request

January 22, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 26, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Child Nutrition Database.

OMB Control Number: 0584-0494.

Summary of Collection: The Child Nutrition Database (CNDB) is a necessary component and is required under 7 CFR 210.10(i)(2) and 7 CFR 220.8(i) to be part of the nutrient analysis software approved by the U.S. Department of Agriculture (USDA), Food and Nutrition Service (FNS) that is used in the nutrient analysis of the school meals served in the National School Lunch Program (NSLP) and the School Breakfast Program (SBP). 7 CFR 210.18 also requires State agencies to conduct a nutrient analysis of school lunches and breakfasts if non-compliance risk is determined as part of the administrative review to monitor compliance with the dietary specifications for calories, saturated fat, and sodium. When needed to determine compliance, the State agencies are required to use nutrient analysis software evaluated and approved by USDA. The USDA-approved nutrient analysis software must include the CNDB to provide agencies with the nutrient data of foods typically used in school recipes and menus, as well as for food products that are marketed to schools by food manufacturers. The CNDB provides the State agencies with the necessary nutrient information to assess compliance with the dietary specifications in 7 CFR 210.10 for the NSLP and 7 CFR 220.8 for the SBP. The CNDB is regularly maintained and updated to ensure that the information is accurate and current. Form FNS-710 CN Database Qualification Report, which is an Excel spreadsheet, is used to collect the nutrient data from food manufacturers for commercially processed foods that are sold and marketed for use in school food service.

Need and Use of the Information: This is a voluntary information collection that is used to collect nutrient data from food manufacturers for their food products. Private software companies are required to use the CNDB in their nutrient analysis software programs approved by FNS for use in nutrient analyses required in the school meal programs. The State agencies and program operators use this nutrient information in the approved software programs for auditing and nutrient analysis review purposes. The CNDB contains nutrient composition data for: (1) Food items from the USDA National Nutrient Database for Standard Reference (SR); (2) standardized recipes for Child Nutrition Programs developed by FNS; (3) brand name commercially processed foods; and (4) USDA Foods.

Description of Respondents: Businesses or other for-profit.

Number of Respondents: 32.

Frequency of Responses: Reporting: Annually.

Total Burden Hours: 2,240.

Ruth Brown,
Departmental Information Collection Clearance Officer.

[FR Doc. 2021-01751 Filed 1-26-21; 8:45 am]

BILLING CODE 3410-30-P